Title 3—

The President

Proclamation 9141 of June 11, 2014

World Elder Abuse Awareness Day, 2014

By the President of the United States of America

A Proclamation

Each year, the international community renews its commitment to addressing a human rights issue that too often goes ignored—elder abuse, neglect, and exploitation. Elder abuse damages public health and threatens millions of our parents, grandparents, and friends. It is a crisis that knows no borders or socio-economic lines. On World Elder Abuse Awareness Day, we strengthen our resolve to replace neglect with care and exploitation with respect.

America must lead by example, and my Administration remains dedicated to ending elder abuse, supporting victims, and holding abusers accountable. Under the Affordable Care Act, we enacted the Elder Justice Act. Through this law, the Federal Government has invested in identifying, responding to, and preventing elder abuse, neglect, and exploitation. Because eliminating this pervasive crime requires coordinated action, we are bringing together Federal agencies; non-profit and private sector partners; and State, local, and tribal governments. Together, we can build a more responsive criminal justice system, give seniors the tools to avoid financial scams, and determine the best ways to prevent elder abuse before it starts.

Seniors have provided for their families, risen to the challenges of their times, and built ladders of opportunity for future generations. Many have served our Nation with honor. After decades of hard work, they have earned the right to enjoy their retirement years with a basic sense of security. Today, let us join with partners around the globe in declaring that we will not fail the men and women who raised us, sacrificed for us, and shaped our world.

NOW, THEREFORE, I, BARACK OBAMA, President of the United States of America, by virtue of the authority vested in me by the Constitution and the laws of the United States, do hereby proclaim June 15, 2014, as World Elder Abuse Awareness Day. I call upon all Americans to observe this day by learning the signs of elder abuse, neglect, and exploitation, and by raising awareness about this growing public health issue.

IN WITNESS WHEREOF, I have hereunto set my hand this eleventh day of June, in the year of our Lord two thousand fourteen, and of the Independence of the United States of America the two hundred and thirty-eighth.

[FR Doc. 2014-14210

Filed 6-13-14; 11:15 am]

Billing code 3295-F4